INTERNATIONAL TRADE COMMISSION

[Investigation No. 731-TA-1070B (Review)]

Certain Tissue Paper Products From China

Determination

On the basis of the record ¹ developed in the subject five-year review, the United States International Trade Commission (Commission) determines, pursuant to section 751(c) of the Tariff Act of 1930 (19 U.S.C. 1675(c)), that revocation of the antidumping duty order on certain tissue paper products from China would be likely to lead to continuation or recurrence of material injury to an industry in the United States within a reasonably foreseeable time.²

¹ The record is defined in sec. 207.2(f) of the Commission's Rules of Practice and Procedure (19 CFR 207.2(f)).

² Chairman Okun and Commissioner Pearson found two domestic like products—consumer tissue paper and bulk tissue paper. They determined that revocation of the antidumping duty order on bulk tissue paper would be likely to lead to continuation or recurrence of material injury to an industry in the United States within a reasonably foreseeable time. They also determined that revocation of the antidumping duty order on consumer tissue paper would not be likely to lead to continuation or recurrence of material injury to an industry in the United States within a reasonably foreseeable time.

Background

The Commission instituted this review on February 1, 2010 (75 FR 5115) and determined on May 7, 2010 that it would conduct an expedited review (75 FR 28061, May 19, 2010).

The Commission transmitted its determination in this review to the Secretary of Commerce on July 1, 2010. The views of the Commission are contained in USITC Publication 4165 (July 2010), entitled Certain Tissue Paper Products from China: Investigation No. 731-TA-1070B (Review).

By order of the Commission.
Issued: July 1, 2010.
Marilyn R. Abbott,
Secretary to the Commission.

[FR Doc. 2010-16650 Filed 7-7-10; 8:45 am]

BILLING CODE 7020-02-P